NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 11, 2013, 8:30 a.m.-5:00 p.m., April 12, 2013, 8:30 a.m.-1:30 p.m.

Place: Stafford I, Room 1235, National Science Foundation, 4201Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for geosciences research and education.

Agenda

April 11, 2013

• Directorate and NSF activities and plans

• Division Subcommittee Meetings

• Meeting with the Acting Director

April 12, 2013

• Discussion of Expeditions in Education and other NSF Education Programs

• Briefing on South Pole Research and Operations

• Action Items/Planning for Fall Meeting

Dated: March 12, 2013.
Susanne Bolton,
Committee Management Officer.

[FR Doc. 2013-06223 Filed 3-18-13; 8:45 am]

BILLING CODE 7555-01-P